DEPARTMENT OF THE TREASURY

Submission for OMB Review; Comment Request

August 7, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 13, 2002 to be assured of consideration.

Internal Revenue Service (IRS)

OMB Number: 1545-1004.

Form Number: IRS Form 1120-REIT.

Type of Review: Revision.

Title: U.S. Income Tax Return for Real Estate Investment Trusts.

Description: Form 1120-REIT is filed by a corporation, trust, or association electing to be taxed as a REIT in order to report its income, and deductions, and to compute its tax liability. IRS uses Form 1120-REIT to determine whether the REIT has correctly reported its income, deductions, and tax liability.

Respondents: Business or other for-profit.

Estimated Number of Respondents/Recordkeepers: 363.

Estimated Burden Hours Per Respondent/Recordkeeper:

Recordkeeping | 58 hr., 35 min.
Learning about the law or the form | 24 hr., 7 min.
Preparing the form | 42 hr., 51 min.
Copying, assembling, and sending the form to the IRS | 4 hr., 49 min.

Frequency of Response: Annually.

Estimated Total Reporting/Recordkeeping Burden: 46,490 hours.

OMB Number: 1545-1008.

Form Number: IRS Form 8582.

Type of Review: Revision.

Title: Passive Activity Loss Limitation.

Description: Under Internal Revenue Code section 469, losses from passive activities, to the extent that they exceed income from passive activities, cannot be deducted against nonpassive income. Form 8582 is used to figure the passive activity loss allowed and the loss to be reported on the tax return.

Respondents: Business or other for-profit, Individuals or households, Farms.

Estimated Number of Respondents/Recordkeepers: 3,622,282.

Estimated Burden Hours Per Respondent/Recordkeeper:

Recordkeeping | 1 hr., 25 min.
Learning about the law or the form | 1 hr., 43 min.
Preparing the form | 1 hr., 45 min.
Copying, assembling, and sending the form to the IRS | 20 min.

Frequency of Response: Annually.

Estimated Total Reporting/Recordkeeping Burden: 19,355,758 hours.

Clearance Officer: Glenn Kirkland, (202) 622-3428, Internal Revenue Service, Room 6411-03, 1111 Constitution Avenue, NW, Washington, DC 20224.

OMB Reviewer: Joseph F. Lackey, Jr., (202) 395-7316, Office of Management and Budget, Room 10235, New Executive Office Building, Washington, DC 20503.

Mary A. Able,
Departmental Reports, Management Officer.

[FR Doc. 02-20553 Filed 8-13-02; 8:45 am]

BILLING CODE 4830-01-P